DEPARTMENT OF THE INTERIOR

Office of the Secretary of the Interior

43 CFR Part 10

[NPS-WASO-NAGPRA-20860; PPWOCRADN0-PCU00RP14.R50000]

RIN 1024-AE28

Civil Penalties Inflation Adjustments

AGENCY: Office of the Secretary, Interior.

ACTION: Correcting amendment.

SUMMARY: The Office of the Secretary of the Interior published a document in the Federal Register on June 28, 2016, adjusting the level of civil monetary penalties contained in U.S. Department of the Interior regulations implementing the Native American Graves Protection and Repatriation Act with an initial “catch-up” adjustment under the Federal Civil Penalties Inflation Adjustment Act Improvements Act of 2015 and Office of Management and Budget guidance. This document corrects the final regulations by fixing a mistake in the amount of one of the adjusted civil penalties.

DATES: This correction is effective on September 20, 2016.

FOR FURTHER INFORMATION CONTACT: Jay Calhoun, Regulations Program Specialist, National Park Service, 1849 C Street NW., Washington, DC 20240.

SUPPLEMENTARY INFORMATION: This is the second correction to the interim final rule published on June 28, 2016 (81 FR 41858). The first set of corrections was published on August 8, 2016 (81 FR 52352). These corrections were administrative and procedural relating to process for submitting comments. This second correction fixes a mistake in the amount of the civil penalty for continued failure to comply with requirements of the Native American Graves Protection and Repatriation Act. The rule stated the adjusted penalty was $1,268. The correct amount of the adjusted penalty is $1,286.

List of Subjects in 43 CFR Part 10

Administrative practice and procedure, Hawaiian Natives, Historic preservation, Indians-claims, Indians-lands, Museums, Penalties, Public lands, Reporting and recordkeeping requirements.

Accordingly, 43 CFR part 10 is corrected by making the following correcting amendment:

PART 10—NATIVE AMERICAN GRAVES PROTECTION AND REPATRIATION REGULATIONS

1. The authority citation for part 10 continues to read as follows:

Authority: 16 U.S.C. 470dd; 25 U.S.C. 9, 3001 et seq.

§ 10.12 [Corrected]

2. In § 10.12(g)(3), remove “$1,268” and add in its place “$1,286”.

Dated: September 13, 2016.
Michael Bean,
Principal Deputy Assistant Secretary for Fish and Wildlife and Parks.

[FR Doc. 2016-22565 Filed 9-19-16; 8:45 am]

BILLING CODE 4310-EJ-P